GENERAL SERVICES ADMINISTRATION

[Notice-FAS-2016-01; Docket No. 2016-0001; Sequence 15]

Seeking Input on the Public Release of Data Collected Through Transactional Data Reporting

AGENCY: Federal Acquisition Service (FAS), General Services Administration (GSA).

ACTION: Notice.

SUMMARY: FAS is publishing this notice to solicit comments regarding the public release of transactional data reported in accordance with the General Services Administration Acquisition Regulation (GSAR) Transactional Data Reporting clauses. GSA FAS will consider comments received in establishing its final position on which Transactional Data Reporting (TDR) data elements are releasable under the Freedom of Information Act (FOIA) and which elements will therefore be released to the general public via a public data extract.

DATES: Submit comments on or before August 29, 2016.

FOR FURTHER INFORMATION CONTACT: Mr. Adam Jones, Procurement Analyst, FAS Office of Acquisition Management, at adam.jones@gsa.gov, or 571-289-0164.

ADDRESSES: Submit comments identified by “Notice FAS-2016-01; Seeking Input on the Public Release of Data Collected Through Transactional Data Reporting” by any of the following methods:

• Regulations.gov: http://www.regulations.gov. Submit comments via the Federal eRulemaking portal by inputting “Notice FAS-2016-01; Seeking Input on the Public Release of Data Collected through Transactional Data Reporting” under the heading “Enter Keyword or ID” and selecting “Search”. Select the link “submit a Comment” that corresponds with “Notice FAS-2016-01; Seeking Input on the Public Release of Data Collected Through Transactional Data Reporting”. Following the instructions provided at the “Submit a Comment” screen. Please include your name, company name (if any), and “Notice FAS-2016-01; Seeking Input on the Public Release of Data Collected Through Transactional Data Reporting” on your attached document.

• Mail: General Services Administration, Regulatory Secretariat Division (MVCB), 1800 F Street NW., Washington, DC 20405. ATTN: Ms. Flowers/Notice FAS-2016-01; Seeking Input on the Public Release of Data Collected Through Transactional Data Reporting.

Instructions: Please submit comments only and cite Notice FAS-2016-01; Seeking Input on the Public Release of Data Collected Through Transactional Data Reporting, in all correspondence related to this collection. Comments received generally will be posted without change to http://www.regulations.gov, including any personal and/or business confidential information provided. To confirm receipt of your comment(s), please check www.regulations.gov, approximately two to three days after submission to verify posting (except allow 30 days for posting of comments submitted by mail).

SUPPLEMENTARY INFORMATION:

A. Background: GSA published the Transactional Data Reporting final rule in the Federal Register at 81 FR 41103 on June 23, 2016. The rule amended the General Services Administration Acquisition Regulation (GSAR) to include clauses that require vendors to report transactional data from orders placed against select Federal Supply Schedule (FSS) contracts, Governmentwide Acquisition Contracts (GWACs), and Governmentwide Indefinite-Delivery, Indefinite-Quantity (IDIQ) contracts. The clause applicable to GWACs and Governmentwide IDIQs, GSAR clause 552.216-75, will be applied to new contracts in that class and may be applied to any existing contracts in this class that do not contain other transactional data clauses. For FSS contracts, the clause (GSAR clause 552.238-74 Alternate I) will be introduced in phases, beginning with a pilot for select Schedules or Special Item Numbers and will be paired with changes to existing requirements for Commercial Sales Practices disclosures and Price Reductions clause basis of award monitoring. The final rule does not apply to the Department of Veterans Affairs (VA) FSS contract holders.¹

¹ See GSAR Case 2013-G504; Docket 2014-0020; Sequence 1 (80 FR 11619 (Mar. 4, 2015)).

Contractors subject to Transactional Data Reporting will be required to report eleven standard data elements. Any data elements beyond the standard elements must be coordinated with the applicable category manager, and approved by the Head of Contracting Activity and GSA's Senior Procurement Executive in order for them to be included with a tailored version of the applicable clause. The determination regarding additional data elements will consider the benefits, alternatives, burden, and need for additional rulemaking.

GSA intends to share transactional data to the maximum extent allowable to promote transparency and competition while respecting that some data could be exempt from disclosure. Accordingly, a public data extract, containing information that would otherwise be releasable under the Freedom of Information Act (FOIA) (5 U.S.C. 552), will be created for use by the general public.

The data released to the public will provide valuable market intelligence that can be used by vendors for crafting more efficient, targeted business development strategies that incur lower administrative costs. This will be particularly beneficial for small businesses, which often do not have the resources to invest in dedicated business development staff or acquire business intelligence through third-parties.

B. Standard Data Elements: Both Transactional Data Reporting GSAR clauses 552.238-74, Alternate I and 552.216-75 require contractors to report the same eleven standard data elements. These data elements, along with their exemption status under FOIA, are listed in the table below.

Data element description | Exemption status
1. Contract or Blanket Purchase Agreement (BPA) Number | Not exempt under FOIA.
2. Delivery/Task Order Number/Procurement Instrument Identifier (PIID) | Not exempt under FOIA.
3. Non Federal Entity | Not exempt under FOIA.
4. Description of Deliverable | Not exempt under FOIA.
5. Manufacturer Name | Not exempt under FOIA.
6. Manufacturer Part Number | Not exempt under FOIA.
7. Unit Measure (each, hour, case, lot) | Not exempt under FOIA.
8. Quantity of Item Sold | Exempt—5 U.S.C. 552(b)(4).²
9. Universal Product Code | Not exempt under FOIA.
10. Price Paid Per Unit | Exempt—5 U.S.C. 552(b)(4).
11. Total Price | Not exempt under FOIA.

As described in Section A, GSA intends to share transactional data elements that are not exempt under the FOIA with the general public through a public data extract.

² Since the price paid per unit is exempt, GSA FAS will not release both the Total Price (data element #11) and Quantity of Item Sold (data element #8) as this may reveal the price paid per unit; therefore, Quantity of Item Sold is considered “exempt”.

C. Public Comments: Public comments are invited on the FOIA exemption status of the eleven standard data elements identified in Section B. Comments must be submitted following the instructions above and must identify any data elements addressed by number and description.

Dated: June 23, 2016.
Chiara A. McDowell,
Deputy Assistant Commissioner, Office of Acquisition Management, Federal Acquisition Service.

[FR Doc. 2016-16064 Filed 7-6-16; 8:45 am]

BILLING CODE 6820-34-P